DEPARTMENT OF AGRICULTURE

Food Safety and Inspection Service

[Docket No. 01-038N]

Codex Alimentarius: Meeting of the Codex Committee on Meat and Poultry Hygiene

AGENCY: Office of the Under Secretary for Food Safety, USDA.

ACTION: Notice of public meeting, request for comments.

SUMMARY: The Office of the Under Secretary for Food Safety, U.S. Department of Agriculture (USDA), is sponsoring a public meeting on December 12, 2001, to provide information and receive public comments on agenda items that will be discussed at the Eighth Session of the Codex Committee on Meat and Poultry Hygiene, which will be held in Wellington, New Zealand, on February 18-22, 2002. The Under Secretary recognizes the importance of providing interested parties with information about the Codex Committee on Meat and Poultry Hygiene of the Codex Alimentarius Commission and to address items on the Agenda for the 8th Session of the Committee.

DATES: The public meeting is scheduled for Wednesday, December 12, 2001, from 9 a.m. to 12 p.m.

ADDRESSES: The public meeting will be held at the Washington Plaza Hotel in the Diplomat Room, 10 Thomas Circle, Washington, DC.

To receive copies of the documents referenced in the notice contact the FSIS Docket Room, U.S. Department of Agriculture, Food Safety and Inspection Service, Room 102, Cotton Annex, 300 12th Street, SW., Washington, DC 20250-3700. The documents will also be accessible via the World Wide Web at the following address: http://www.codexalimentarius.net/agend.htm.

If you have comments, please send an original and two copies to the FSIS Docket Room at the address above and reference Docket 01-038N and the document number. All comments submitted will be available for public inspection in the Docket Room between 8:30 a.m. and 4:30 p.m., Monday through Friday.

FOR FURTHER INFORMATION CONTACT: Patrick J. Clerkin, Associate U.S. Manager for Codex, U.S. Codex Office, Food Safety and Inspection Service, Room 4861, South Building, 1400 Independence Avenue, SW., Washington, DC 20250, Phone: (202) 205-7760, Fax: (202) 720-3157.

SUPPLEMENTARY INFORMATION:

Background

The Codex Alimentarius Commission was established in 1962 by two United Nations organizations, the Food and Agriculture Organization (FAO) and the World Health Organization (WHO). Codex is the major international organization for encouraging fair international trade in food and protecting the health and economic interests of consumers. Through adoption of food standards, codes of practice, and other guidelines developed by its committees, and by promoting their adoption and implementation by governments, Codex seeks to ensure that the world's food supply is sound, wholesome, free from adulteration, and correctly labeled. In the United States, USDA, FDA, and EPA manage and carry out U.S. Codex activities.

The Codex Executive Committee (CEC), at its 47th Session in 2000, asked that the Codex Committee on Meat Hygiene reconvene to redraft the existing codes on meat hygiene so that they reflect contemporary developments. The CEC also asked that the scope of the existing codes include poultry hygiene. These recommendations were confirmed by the 24th Session of the Codex Alimentarius Commission in July 2001, and it was agreed that the name of the Committee would be amended to the Codex Committee on Meat and Poultry Hygiene (CCMPH).

Issues To Be Discussed at the Public Meeting

The provisional agenda items to be discussed during the public meeting are:

—Proposed Draft General Principles of Meat Hygiene

—Proposed Draft Code of Hygienic Practice for Fresh Meat

Public Meeting

At the December 10th public meeting, the agenda items will be described and discussed, and attendees will have the opportunity to pose questions and offer comments. Written comments should state that they relate to activities of the 8th Session of the Codex Committee on Meat and Poultry Hygiene.

Additional Public Notification

Public awareness of all segments of rulemaking and policy development is important. Consequently, in an effort to better ensure that minorities, women, and persons with disabilities are aware of this notice, FSIS will announce it and provide copies of this Federal Register publication in the FSIS Constituent Update. FSIS provides a weekly Constituent Update, which is communicated via fax to over 300 organizations and individuals. In addition, the update is available on-line through the FSIS web page located at http://www.fsis.usda.gov. The update is used to provide information regarding FSIS policies, procedures, regulations, Federal Register notices, FSIS public meetings, recalls, and any other types of information that could effect or would be of interest to our constituents/stakeholders. The constituent fax list consists of industry, trade, and farm groups, consumer interest groups, allied health professionals, scientific professionals, and other individuals that have requested to be included. Through these various channels, FSIS is able to provide information to a much broader, more diverse audience.

For more information and to be added to the constituent fax list, fax your request to the Congressional and Public Affairs Office, at (202) 720-5704.

F. Edward Scarbrough,
U.S. Manager for Codex Alimentarius.

[FR Doc. 01-30393 Filed 12-7-01; 8:45 am]

BILLING CODE 3410-DM-P